DEPARTMENT OF AGRICULTURE

Rural Utilities Service

Southern Illinois Power Cooperative; Notice of finding of No Significant Impact

AGENCY: Rural Utilities Service, USDA.

ACTION: Notice of finding no significant impact.

SUMMARY: Notice is hereby given that the Rural Utilities Service (RUS), pursuant to the National Environmental Policy Act of 1969, as amended, the Council on Environmental Quality regulations (40 CFR parts 1500-1508), and RUS Environmental Policies and Procedures (7 CFR part 1794), has made a finding of no significant impact (FONSI) with respect to a project proposed by Southern Illinois Power Cooperative (SIPC) of Marion, Illinois. The project consists of re-powering of Units 1 through 3 located at Marion Generating Station owned by SIPC. The three existing coal fired boilers will be replaced with a new Circulating Fluidized Bed (CFB) boiler that will provide the total capacity of 120 MW.

The CFB boiler will normally be fired with Illinois Bituminous coal and/or Illinois Bituminous coal refuse. No additional transmission facilities will be required. The Marion Generating Station is located approximately eight miles south of Marion in Williamson County, Illinois. RUS may provide financial assistance to SIPC for this project.

RUS has concluded that the impacts of the proposed project would not be significant and the proposed action is not a major federal action significantly affecting the quality of the human environment. Therefore, the preparation of an environmental impact statement is not necessary.

FOR FUTHER INFORMATION CONTACT: Nurul Islam, Environmental Protection Specialist, Rural Utilities Service, Engineering and Environmental Staff, Stop 1571, 1400 Independence Avenue, SW., Washington, DC 20250-1571, telephone: (202) 720-1414, e-mail: nislam@rus.usda.gov. Information is also available from Mr. Dick Myott, Environmental & Planning Department Manager, Southern Illinois Power Cooperative, 11543 Lake of Egypt Road, Marion, Illinois 62959, telephone (618) 964-1448, Ext. 268. His e-mail address is: rmyott@sipower.org.

SUPPLEMENTARY INFORMATION: RUS, in accordance with its environmental policies and procedures, required that SIPC prepare an Environmental Analysis reflecting the potential impacts of the proposed facilities. The Environmental Analysis, which includes input from federal, state, and local agencies, has been reviewed and accepted as RUS' Environmental Assessment (EA) for the project in accordance with 7 CFR 1794.41. SIPC published notices of the availability of the EA and solicited public comments per 7 CFR 1792.42. The 30-day comment period on the EA for the proposed CFB boiler project ended April 16, 2001. The U.S. Environmental Protection Agency, Region 5, reviewed the EA and stated that the proposed project should not adversely affect human health or significantly degrade the environment. They further stated that the use of appropriate measures for the control of dust, noise, and erosion during construction activities should be sufficient to alleviate the moderate or short-term impacts that are likely to occur. No other comments were received on the EA.

Based on the EA, RUS has concluded that the proposed action will not have a significant effect to various resources, including important farmland, floodplains, wetlands, cultural resources, threatened and endangered species and their critical habitat, air and water quality, and noise. RUS has also determined that there would be no negative impacts of the proposed project on minority communities and low-income communities as a result of the construction of the project.

The EA and the FONSI is available for public review at the RUS or the headquarters of SIPC at the addresses provided in this notice and at the following location:

Marion Carnegie Library, 206 South Market Street, Marion, Illinois 62959, Tel: (618) 993-5935.

Dated: May 1, 2001.
Blaine D. Stockton,
Assistant Administrator, Electric Program, Rural Utilities Service.

[FR Doc. 01-11405 Filed 5-4-01; 8:45 am]

BILLING CODE 3410-15-P